ENVIRONMENTAL PROTECTION AGENCY

[ER-FRL-9006-8]

Notice of Intent: Designation of an Expanded Ocean Dredged Material Disposal Site (ODMDS) off Charleston, South Carolina

AGENCY: U.S. Environmental Protection Agency (EPA) Region 4.

ACTION: Notice of Intent to prepare an Environmental Assessment (EA) for the designation of an expanded ODMDS off Charleston, South Carolina.

Purpose: EPA has the authority to designate ODMDSs under Section 102 of the Marine Protection, Research and Sanctuaries Act of 1972 (33 U.S.C. 1401 et seq.). It is EPA's policy to prepare a National Environmental Policy Document for all ODMDS designations (63 FR 58045, October 1998).

For Further Information, to Submit Comments, and To Be Placed On the Project Mailing List Contact: Mr. Gary W. Collins, EPA Region 4, 61 Forsyth Street, Atlanta, Georgia 30303, phone 404-562-9393, email: collins.garyw@epa.gov.

SUMMARY: EPA in cooperation with the U.S. Army Corps of Engineers Charleston District (USACE) intends to prepare an EA to evaluate the proposed designation of an expanded ODMDS offshore Charleston, South Carolina. An EA will provide the environmental information necessary to evaluate the potential environmental impacts associated with expanding the ODMDS.

Need for Action: The USACE has requested that EPA evaluate and designate an expanded ODMDS. The study area includes an area approximately 7.18 square miles in size, for the disposal of dredged material from the proposed harbor deepening dredging at Charleston Harbor (4.04 square miles are within the current ODMDS and 3.14 square miles are outside the current ODMDS). The size of an expanded ODMDS will based on capacity computer modeling results, and will be refined throughout the study phase.

Alternatives: The following proposed alternatives have been tentatively defined.

1. No action.

2. Expansion of the existing Charleston ODMDS. Expand the existing disposal zone and ODMDS to the north, south and east.

Scoping: EPA is requesting written comments from federal, state, and local governments, industry, non-governmental organizations, and the general public on the range of alternatives considered, specific environmental issues to be evaluated, and the potential impacts of the alternatives. Scoping comments will be accepted for 60 days, beginning with the date of this Notice.

Estimated Date of Draft EA Release: May 2014.

Responsible Official: Gwendolyn Keyes Fleming, Regional Administrator, Region 4.

Dated: December 21, 2012.
Susan E. Bromm,
Director, Office of Federal Activities.

[FR Doc. 2012-31460 Filed 12-28-12; 8:45 am]

BILLING CODE 6560-50-P